DEPARTMENT OF TRANSPORTATION

Coast Guard

[USCG 2000-7222]

Information Collection Under Review by the Office of Management and Budget (OMB): OMB Control Numbers 2115-0017, 2115-0611, 2115-0573, and 2115-0630

AGENCY: Coast Guard, DOT.

ACTION: Request for comments.

SUMMARY: In compliance with the Paperwork Reduction Act of 1995, this request for comments announces that the Coast Guard has forwarded four Information Collection Reports (ICRs) abstracted below to OMB for review and comment. Our ICRs describe the information that we seek to collect from the public. Review and comment by OMB ensure that we impose only paperwork burdens commensurate with our performance of duties.

DATES: Please submit comments on or before August 25, 2000.

ADDRESSES: Please send comments to both (1) The Docket Management System (DMS), U.S. Department of Transportation (DOT), room PL-401, 400 Seventh Street SW., Washington, DC 20590-0001, and (2) the Office of Information and Regulatory Affairs (OIRA), Office of Management and Budget (OMB), 725 17th Street NW., Washington, DC 20503, to the attention of the Desk Officer for the USCG.

Copies of the complete ICRs are available for inspection and copying in public docket USCG 2000-7222 of the Docket Management Facility between 10 a.m. and 5 p.m., Monday through Friday, except Federal holidays; for inspection and printing on the internet at http://dms.dot.gov; and for inspection from the Commandant (G-SII-2), U.S. Coast Guard, room 6106, 2100 Second Street S.W., Washington, DC, between 10 a.m. and 4 p.m., Monday through Friday, except Federal holidays.

FOR FURTHER INFORMATION CONTACT: Barbara Davis, Office of Information Management, 202-267-2326, for questions on this document; Dorothy Walker, Chief, Documentary Services Division, U.S. Department of Transportation, 202-366-9330, for questions on the docket.

SUPPLEMENTARY INFORMATION:

Regulatory History

This request constitutes the 30-day notice required by OMB. The Coast Guard has already published [65 FR 19952 (April 13, 2000)] the 60-day notice required by OMB. That request elicited no comments.

Request for Comments

The Coast Guard invites comments on the proposed collections of information to determine whether the collections are necessary for the proper performance of the functions of the Department. In particular, the Coast Guard would appreciate comments addressing: (1) The practical utility of the collections; (2) the accuracy of the Department's estimated burden of the collections; (3) ways to enhance the quality, utility, and clarity of the information that is the subject of the collections; and (4) ways to minimize the burden of collections on respondents, including the use of automated collection techniques or other forms of information technology.

Comments, to DMS or OIRA, must contain the OMB Control Numbers of all ICRs addressed. Comments to DMS must contain the docket number of this request, USCG 2000-7222. Comments to OIRA are best assured of having their full effect if OIRA receives them 30 or fewer days after the publication of this request.

Information Collection Requests

1. Title: Regattas and Marine Parades.

OMB Control Number: 2115-0017.

Type of Request: Extension of currently approved collection.

Affected Public: Sponsors of marine events .

Form(s): N/A.

Abstract: The Coast Guard needs to determine whether a marine event may present a substantial threat to the safety of human life on navigable waters and determine which measures are necessary to ensure the safety of life during the events. Sponsors must notify the Coast Guard of the event and provide additional information, as required. This is an efficient means for the Coast Guard to learn of the events and to address environmental impacts.

Annual Estimated Burden Hours: The estimated burden is 1,540 hours a year.

2. Title: Boat Owner's Report, Possible Safety Defect.

OMB Control Number: 2115-0611.

Type of Request: Extension of a currently approved collection.

Affected Public: Owners of recreational boats.

Forms: CG-5578.

Abstract: Owners of recreational boats or engines who believe their product contains a defect or fails to comply with safety standards can call the Coast Guard Infoline, which will send them a copy of the “Boat Owner's Report”, or they can file the report on-line at the website for the Office of Boating Safety.

Annual Estimated Burden Hours: The estimated burden is 80 hours a year.

Frequency: One time.

3. Title: Labeling Requirements in 33 CFR Parts 181 and 183.

OMB Control Number: 2115-0573.

Type of Request: Extension of currently approved collection.

Affected Public: Manufacturers and importers of recreational boats.

Form(s): N/A.

Abstract: The collection of information requires manufacturers or importers of recreational boats to apply for serial numbers from the Coast Guard and to display various labels on these boats.

Annual Estimated Burden Hours: The estimated burden is 382,798 hours a year.

4. Title: International Safety Management Code Audit Reports.

OMB Control Number: 2115-0630.

Type of Request: Extension of currently approved collection.

Affected Public: Owners and operators of vessels, and organizations authorized to issue ISM Code certificates for the United States.

Form(s): N/A.

Abstract: The Coast Guard uses this information collection to determine the compliance status of U.S. vessels, subject to SOLAS 74, engaged in international trade. Organizations recognized by the Coast Guard conduct ongoing audits of vessels' and companies' safety-management systems.

Annual Estimated Burden Hours: The estimated burden is 3,650 hours a year.

Dated: July 19, 2000.
Daniel F. Sheehan,
Director of Information and Technology.

[FR Doc. 00-18898 Filed 7-25-00; 8:45 am]

BILLING CODE 4910-15-U